DEPARTMENT OF VETERANS AFFAIRS

National Academic Affiliations Council Notice of Meeting

The Department of Veterans Affairs (VA) gives notice under the Federal Advisory Committee Act, 5 U.S.C. App. 2, that a meeting of the National Academic Affiliations Council (NAAC) will be held on November 14-15, 2013, in the Office of Academic Affiliations Conference Room 870, 1800 G Street NW., Washington, DC. The sessions will begin at 8:00 a.m. each day and adjourn at 5:00 p.m. on November 14 and at 1:00 p.m. on November 15.

The purpose of the Council is to advise the Secretary on matters affecting partnerships between VA and its academic affiliates.

On November 14, the Council will review the status of recommendations from its previous meetings; hear from Veterans Health Administration (VHA) officials; and engage in discussions about patient aligned care teams in VA and implications for health professions education. On November 15, the Council will hear from officials of the VHA Office of Research and Development; receive reports from Liaison Committees and discuss VA advancements in quality and patient safety education. The Council will receive public comments at 12:30 p.m.

Because the meeting is being held in a government building, a photo I.D. must be presented at the Guard's Desk as a part of the clearance process. Therefore, you should allow an additional 15 minutes before the meeting begins.

A sign-in sheet for those who want to give comments will be available at the meeting. Individuals who speak are invited to submit a 1-2 page summary of their comments at the time of the meeting for inclusion in the official meeting record. Oral presentations will be limited to five minutes or less, depending on the number of participants. Interested parties may also provide written comments for review by the Council to Gloria J. Holland, Ph.D., Special Assistant for Policy and Planning, Office of Academic Affiliations (10A2D), VA, 810 Vermont Avenue NW., Washington, DC 20420 or by email to Gloria.Holland@va.gov. Any member of the public wishing to attend or seeking additional information should contact Dr. Holland by email or by phone at (202) 461-9490.

Dated: October 29, 2013.
Robert C. McFetridge,
Director, Office of Regulation Policy and Management, Office of the General Counsel.

[FR Doc. 2013-26077 Filed 10-31-13; 8:45 am]

BILLING CODE P